Executive Order 13613 of May 21, 2012

Providing an Order of Succession Within the Department of Commerce

By the authority vested in me as President by the Constitution and the laws of the United States of America, including the Federal Vacancies Reform Act of 1998, as amended, 5 U.S.C. 3345 et seq. (the “Act”), it is hereby ordered that:

Section 1. Order of Succession. Subject to the provisions of section 2 of this order, and to the limitations set forth in the Act, the following officials of the Department of Commerce, in the order listed, shall act as and perform the functions and duties of the office of the Secretary of Commerce (Secretary) during any period in which the Secretary has died, resigned, or otherwise become unable to perform the functions and duties of the office of the Secretary:

(a) Deputy Secretary of Commerce;

(b) General Counsel of the Department of Commerce;

(c) Under Secretary of Commerce for International Trade;

(d) Under Secretary of Commerce for Economic Affairs;

(e) Under Secretary of Commerce for Standards and Technology;

(f) Under Secretary of Commerce for Oceans and Atmosphere and Administrator of the National Oceanic and Atmospheric Administration;

(g) Under Secretary of Commerce for Export Administration;

(h) Chief Financial Officer of the Department of Commerce and Assistant Secretary of Commerce (Administration); and

(i) The Boulder Laboratories Site Manager, National Institute of Standards and Technology.

Sec. 2. Exceptions. (a) No individual who is serving in an office listed in section 1(a)-(i) of this order in an acting capacity shall, by virtue of so serving, act as Secretary pursuant to this order.

(b) No individual listed in section 1(a)-(i) of this order shall act as Secretary unless that individual is otherwise eligible to so serve under the Act, as amended.

(c) Notwithstanding the provisions of this order, the President retains discretion, to the extent permitted by law, to depart from this order in designating an acting Secretary.

Sec. 3. Revocation. Executive Order 13242 of December 18, 2001 (Providing An Order of Succession Within the Department of Commerce) and Memorandum for the Secretary of Commerce of October 3, 2002 (Designation of Officers of the Department of Commerce to Act as Secretary of Commerce) are hereby revoked.

Sec. 4. Judicial Review. This order is not intended to, and does not, create any right or benefit, substantive or procedural, enforceable at law or in equity by any party against the United States, its departments, agencies, or entities, its officers, employees, or agents, or any other person.

THE WHITE HOUSE,

May 21, 2012.

[FR Doc. 2012-12882

Filed 5-23-12; 11:15 am]

Billing code 3295-F2-P